DEPARTMENT OF TRANSPORTATION

Federal Railroad Administration

[Docket No. FRA-2009-0001-N-23]

Notice and Request for Comments

AGENCY: Federal Railroad Administration, DOT.

ACTION: Notice and request for comments.

SUMMARY: In compliance with the Paperwork Reduction Act of 1995 (44 U.S.C. 3501 et seq.), this notice announces that the Information Collection Requirement (ICR) abstracted below has been forwarded to the Office of Management and Budget (OMB) for review and comment. The ICR describes the nature of the information collection and its expected burden. The Federal Register notice with a 60-day comment period soliciting comments on the following collection of information was published on July 6, 2009 (74 FR 32029).

DATES: Comments must be submitted on or before October 21, 2009.

FOR FURTHER INFORMATION CONTACT: Mr. Robert Brogan, Office of Safety, Planning and Evaluation Division, RRS-21, Federal Railroad Administration, 1200 New Jersey Ave., SE., 3rd Floor, Mail Stop 25, Washington, DC 20590 (telephone: (202) 493-6292), or Ms. Nakia Jackson, Office of Information Technology, RAD-20, Federal Railroad Administration, 1200 New Jersey Ave., SE., 3rd Floor, Mail Stop 35, Washington, DC 20590 (telephone: (202) 493-6073). (These telephone numbers are not toll-free.)

SUPPLEMENTARY INFORMATION: The Paperwork Reduction Act of 1995 (PRA), Public Law No. 104-13, Section 2, 109 Stat. 163 (1995) (codified as revised at 44 U.S.C. 3501-3520), and its implementing regulations, 5 CFR Part 1320, require Federal agencies to issue two notices seeking public comment on information collection activities before OMB may approve paperwork packages. 44 U.S.C. 3506, 3507; 5 CFR 1320.5, 1320.8(d)(1), 1320.12. On July 6, 2009, FRA published a 60-day notice in the Federal Register soliciting comment on this ICR that the agency was seeking OMB approval. 74 FR 32029. FRA received one comment—a letter—in response to this notice.

The letter came from Mr. Freddie Simpson, President of the Brotherhood of Maintenance of Way Employees Division of the International Brotherhood of Teamsters (BMWED). BMWED is a rail labor organization representing approximately 36,000 railroad workers who build, maintain, repair and inspect tracks, bridges, and related railroad infrastructure throughout North America. In his remarks, Mr. Simpson stated the following:

In response to the Proposed Agency Information Collection Activities; Comment Request published in the Federal Register on July 6, 2009, (Volume 74, Number 127, pages 32029-32030) BMWED supports the proposed study and related information collection activities. As such, BMWED respectfully requests OMB approval.

BMWED offers the following comments in support:

• The proposed collection of information is necessary for the Department to fulfill its Congressional mandate under the RSIA to conduct a track inspection time study. This information is necessary to evaluate the conditions under which visual track inspections are conducted and to develop a report to the Congress responsive to Section 403 of the RSIA.

• The collected information will have practical utility to the Secretary of Transportation and the Federal Railroad Administration (FRA) in their analysis of track inspection issues within the industry.

• The Department's estimates of burden hours and costs are reasonable.

• The methodology proposed for this information collection activity is suitable and appropriate for the study and the respondent population and will facilitate the collection of data with high utility.

• The proposed information collection activity has been designed to be minimally burdensome on respondents and the proposed information collection activity is of limited duration.

Visual track inspections conducted under 49 CFR Parts 213.233, 213.235 and 213.365 play a vital and integral role in maintaining track structural integrity and the safety of railroad operations. BMWED believes that the “Track Transportation [track inspection] Time Study, OMB Control Number: 2130-NEW, Docket No. FRA-2009-0001-N-16” is necessary to allow the Secretary to fulfill the Congressional mandate of Section 403 of the RSIA to: (1) determine whether the required intervals of track inspections for each class of track should be amended; (2) determine whether track remedial action requirements should be amended; (3) determine whether different track inspection and repair priorities or methods should be required; and (4) determine whether the speed at which railroad track inspection vehicles operate and the scope of the territory they generally cover allow for proper inspection of the track and whether such speed and appropriate scope should be regulated by the Secretary.

FRA received no other comments in response to this notice. Accordingly, DOT announces that these information collection activities have been evaluated and certified under 5 CFR 1320.5(a) and forwarded to OMB for review and approval pursuant to 5 CFR 1320.10(a).

Before OMB decides whether to approve these proposed collections of information, it must provide 30 days for public comment. 44 U.S.C. 3507(b); 5 CFR 1320.12(d). Federal law requires OMB to approve or disapprove paperwork packages between 30 and 60 days after the 30 day notice is published. 44 U.S.C. 3507 (b)-(c); 5 CFR 1320.12(d); see also 60 FR 44978, 44983, Aug. 29, 1995. OMB believes that the 30 day notice informs the regulated community to file relevant comments and affords the agency adequate time to digest public comments before it renders a decision. 60 FR 44983, Aug. 29, 1995. Therefore, respondents should submit their respective comments to OMB within 30 days of publication to best ensure having their full effect. 5 CFR 1320.12(c); see also 60 FR 44983, Aug. 29, 1995.

The summary below describes the nature of the information collection requirement (ICR) and the expected burden for the ICR being submitted for clearance by OMB as required by the PRA.

Title: Track Transportation Time Study.

OMB Control Number: 2130-New.

Type of Request: Regular Approval of a New Collection of Information.

Affected Public: Track Inspectors/Track Inspector Supervisors/Division and Chief Engineers

Abstract: The Rail Safety Improvement Act of 2008 (Pub. L. 110-432) calls for a track inspection time study to be performed by FRA. The information required to develop the report will be at least partially obtained through a series of information gathering surveys which are focused on various aspects of track inspection. Each survey will be customized for a particular segment of the workforce and will include track inspectors, track supervisors or roadmasters, middle management (division engineers), and senior management (chief engineers).

The purpose of the proposed study is to address four issues raised in the Rail Safety Improvement Act: (1.) Determine whether the required intervals of track inspections for each class of track should be amended; (2.) Determine whether track remedial action requirements should be amended; (3.) Determine whether different track inspection and repair priorities or methods should be required; and (4.) Determine whether the speed at which railroad track inspection vehicles operate and the scope of the territory they generally cover allow for proper inspection of the track and whether such speed and appropriate scope should be regulated by the Secretary.

Form Number(s): FRA F 6180.136; FRA F 6180.137.

Annual Estimated Burden Hours: 133 hours.

Addressee: Send comments regarding this information collection to the Office of Information and Regulatory Affairs, Office of Management and Budget, 725 Seventeenth Street, NW., Washington, DC 20503, Attention: FRA Desk Officer. Comments may also be sent via e-mail to OMB at the following address: oira_submissions@omb.eop.gov.

Comments are invited on the following: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology.

A comment to OMB is best assured of having its full effect if OMB receives it within 30 days of publication of this notice in the Federal Register.

Authority: 44 U.S.C. 3501-3520.

Issued in Washington, DC on September 14, 2009.
Kimberly Orben,
Director, Office of Financial Management, Federal Railroad Administration.

[FR Doc. E9-22583 Filed 9-18-09; 8:45 am]

BILLING CODE 4910-06-P